FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) is amending the Appliance Labeling Rule (“Rule”) to require clothes washer manufacturers to submit their annual energy data for clothes washers on October 1 rather than March 1 as currently required. This change will make FTC's reporting date consistent with that of the Canadian energy labeling program.

EFFECTIVE DATE: February 21, 2003.

FOR FURTHER INFORMATION CONTACT: Hampton Newsome, Attorney, Division of Enforcement, Federal Trade Commission, Washington, DC 20580 (202-326-2889); hnewsome@ftc.gov.

SUPPLEMENTARY INFORMATION:

I. Background

The Commission issued the Appliance Labeling Rule in 1979, 44 FR 66466 (Nov. 19, 1979), in response to a directive in the Energy Policy and Conservation Act of 1975 (“EPCA”).¹ The Rule covers, among other things, eight categories of major household appliances: refrigerators and refrigerator-freezers, freezers, dishwashers, clothes washers, water heaters, room air conditioners, furnaces, and central air conditioners.

¹ 42 U.S.C. 6294. The statute also requires the Department of Energy to develop test procedures that measure how much energy the appliances use, and to determine the representative average cost a consumer pays for the different types of energy available.

The Rule requires manufacturers of all covered appliances to disclose specific energy consumption or efficiency information (derived from the Department of Energy (“DOE”) test procedures) at the point of sale in the form of an “EnergyGuide” label and in catalogs. The Rule requires manufacturers to include, on labels, an energy consumption or efficiency figure and a “range of comparability.” This range shows the highest and lowest energy consumption or efficiencies for all comparable appliance models so consumers can compare the energy consumption or efficiency of other models similar to the labeled model.

The Rule requires manufacturers, after filing an initial report, to report annually the estimated annual energy consumption or energy efficiency ratings for the appliances derived from tests performed pursuant to the DOE test procedures. 16 CFR 305.8(b). Because manufacturers regularly add new models to their lines, improve existing models, and drop others, the data base from which the ranges of comparability are calculated is constantly changing. Under Section 305.10 of the Rule, to keep the required information on labels consistent with these changes, the Commission publishes new ranges (but not more often than annually) if an analysis of the new information indicates that the upper or lower limits of the ranges have changed by more than 15%. Otherwise, the Commission publishes a statement that the prior ranges remain in effect for the next year.

II. Changes to Reporting Date for Clothes Washers

In a February 7, 2003 letter to Commission staff, the Association of Home Appliance Manufacturers (AHAM) requested that the Commission amend the reporting date for clothes washer data from March 1 to October 1 of each year. This change will ensure that FTC's submission deadline is consistent with the Canadian reporting period for clothes washers. The Canadian program, administered by Natural Resources Canada, provides manufacturers with a three month period to submit data, which usually begins sometime in September of each year. This amendment will allow manufacturers to compile and submit their annual reports to both agencies in the same time period.

For this year, the change in reporting date will also allow manufacturers to provide the FTC with new energy information based on the most recent DOE test procedure for these products. A new DOE test procedure for clothes washers (see 10 CFR Part 430, Subpt. B, App. J1) and a new energy standard for clothes washers will become effective on January 1, 2004.² For any particular model, the application of the new test procedure is likely to produce energy consumption figures different from those yielded by the existing DOE test. The current ranges of comparability for clothes washers are based on data for models that have been tested under the current DOE test. AHAM has indicated that it plans to submit data in October 2003 for clothes washers that comply with the 2004 standard and have been tested under the new procedure. This will allow the Commission to review this data and, if appropriate, publish new ranges that reflect new 2004 compliant models tested under the new procedure. Clothes washer labels printed in early 2004 would then provide energy consumption figures and ranges of comparability that reflect the new procedure. By publishing the new ranges as early as possible, the Commission hopes to reduce any confusion that may result from the transition from the old test procedure to the new one.

² See 62 FR 45484 (August 27, 1997) and 66 FR 3314 (January 12, 2001).

In its February 7, 2003 letter, AHAM also requested that the Commission allow its members to use the new test results for EnergyGuide labels printed before January 1, 2004. AHAM also proposed clarifying changes to the clothes washer label. The Commission will address these additional issues separately.

III. Non-Substantive Change to Dishwasher Reporting Date

The Commission is also amending the language in the Rule in §§ 305.8(b) and 305.10(a) to eliminate obsolete language related to the publication of ranges and the submission of data for dishwashers in 2002 (see 67 FR 35008 (May 17, 2002)).

IV. Administrative Procedure Act

The amendments published in this notice involve minor, procedural changes to the submission date for data already required by the Rule. These technical amendments merely alter the dates on which compliance is required and do not affect the requirements of the Rule nor do the amendments alter the frequency with which regulated entities must comply with these requirements. Accordingly, the Commission finds for good cause that public comment and a 30-day effective date for these technical, procedural amendments are unnecessary (5 U.S.C. 553(b)(A)(B) and (d)).

V. Regulatory Flexibility Act

The provisions of the Regulatory Flexibility Act relating to a Regulatory Flexibility Act analysis (5 U.S.C. 603-604) are not applicable to this proceeding because the amendments do not impose any new obligations on entities regulated by the Appliance Labeling Rule. The amendments merely alter the dates on which compliance is required and do not affect the requirements of the rule nor do the amendments alter the frequency with which regulated entities must comply with these requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

VI. Paperwork Reduction Act

In a 1988 notice (53 FR 22113), the Commission stated that the Rule contains disclosure and reporting requirements that constitute “information collection requirements” as defined by 5 CFR 1320.7(c), the regulation that implements the Paperwork Reduction Act.³ The Commission noted that the Rule had been reviewed and approved in 1984 by the Office of Management and Budget (“OMB”) and assigned OMB Control No. 3084-0068. OMB has again reviewed the Rule and extended its approval for its recordkeeping and reporting requirements until September 30, 2004. The amendments now being adopted do not change the substance or frequency of the recordkeeping, disclosure, or reporting requirements and, therefore, do not require further OMB clearance.

³ 44 U.S.C. 3501-3520.

List of Subjects in 16 CFR Part 305

Advertising, Energy conservation, Household appliances, Labeling, Reporting and recordkeeping requirements.

Accordingly, 16 CFR Part 305 is amended as follows:

PART 305—[AMENDED]

1. The authority citation for Part 305 continues to read as follows:

Authority: 42 U.S.C. 6294.

2. In § 305.8, paragraph (b) is revised to read as follows:

§ 305.8 Submission of data

* * * * *

(b)(1) All data required by § 305.8(a) except serial numbers shall be submitted to the Commission annually, on or before the following dates:

Product category | Deadline for data submission
Refrigerators | Aug. 1
Refrigerator-freezers | Aug. 1
Freezers | Aug. 1
Central air conditioners | July 1
Heat pumps | July 1
Dishwashers | June 1
Water heaters | May 1
Room air conditioners | May 1
Furnaces | May 1
Pool heaters | May 1
Clothes washers | Oct. 1
Fluorescent lamp ballasts | Mar. 1
Showerheads | Mar. 1
Faucets | Mar. 1
Water closets | Mar. 1
Urinals | Mar. 1
Fluorescent lamps | Mar. 1 [Stayed]
Medium Base Compact Fluorescent Lamps | Mar. 1 [Stayed]
Incandescent Lamps, incl. Reflector Lamps | Mar. 1 [Stayed]

(2) All revisions to such data (both additions to and deletions from the preceding data) shall be submitted to the Commission as part of the next annual report period.

3. In § 305.10, paragraph (a) is revised to read as follows:

§ 305.10 Ranges of estimated annual energy consumption and energy efficiency ratings.

(a) The range of estimated annual energy consumption or energy efficiency ratings for each covered product (except fluorescent lamp ballasts, showerheads, faucets, water closets or urinals) shall be taken from the appropriate appendix to this rule in effect at the time the labels are affixed to the product. The Commission shall publish revised ranges annually in the Federal Register, if appropriate, or a statement that the specific prior ranges are still applicable for the new year. Ranges will be changed if the estimated annual energy consumption or energy efficiency ratings of the products within the range change in a way that would alter the upper or lower estimated annual energy consumption or energy efficiency rating limits of the range by 15% or more from that previously published. When a range is revised, all information disseminated after 90 days following the publication of the revision shall conform to the revised range. Products that have been labeled prior to the effective date of a modification under this section need not be relabeled.

* * * * *

By direction of the Commission.
Donald S. Clark,
Secretary.

[FR Doc. 03-4079 Filed 2-20-03; 8:45 am]

BILLING CODE 6750-01-P